Memorandum of July 19, 2019

Delegation of Authority Under the Asia Reassurance Initiative Act of 2018

Memorandum for the Secretary of State [and] the Secretary of Energy

By the authority vested in me as President by the Constitution and the laws of the United States of America, including section 301 of title 3, United States Code, I hereby delegate to the Secretary of State the authority vested in the President by section 306(a)(1) of the Asia Reassurance Initiative Act of 2018 (Public Law 115-409) with respect to establishing a comprehensive Indo-Pacific Energy Strategy, which shall be done with the concurrence of the Secretary of Energy.

The delegation in this memorandum shall apply to any provision of any future public law that is the same or substantially the same as the provision referenced in this memorandum.

The Secretary of State is authorized and directed to publish this memorandum in the Federal Register.

THE WHITE HOUSE,

Washington, July 19, 2019

[FR Doc. 2019-16863

Filed 8-2-19; 11:15 am]

Billing code 4710-10-P